DEPARTMENT OF DEFENSE

Department of the Navy

Notice of Intent to Grant Partially Exclusive License; Sigma Technologies International

AGENCY: Department of the Navy, DoD.

ACTION: Notice.

SUMMARY: The Department of the Navy gives notice of its intent to grant Sigma Technologies International a revocable, nonassignable, partially exclusive license, with exclusive field of use in passivation of aluminum flake pigments that have a flake thickness of 5 nm to 2 micron and an area of 10 nm to 500 microns in diameter, in the United States to practice the Government-owned invention, U.S. Patent 7,193,649 entitled “Passivation Layer on Aluminum Surface and Method Thereof.”

DATES: Anyone wishing to object to the grant of this license must file written objections along with supporting evidence, if any, not later than February 20, 2009.

ADDRESSES: Written objections are to be filed with Indian Head Division, Naval Surface Warfare Center, Code CAB, Suite 107, 1st floor, 3824 Strauss Avenue, Indian Head, MD 20640-5152.

FOR FURTHER INFORMATION CONTACT: Dr. J. Scott Deiter, Head, Technology Transfer Office, Naval Surface Warfare Center Indian Head Division, Code CAB, 3824 Strauss Avenue, Indian Head, MD 20640-5035, telephone: 301-744-6111.

Dated: January 15, 2009.
A.M. Vallandingham,
Lieutenant Commander, Judge Advocate General's Corps, U.S. Navy, Federal Register Liaison Officer.

[FR Doc. E9-1452 Filed 1-22-09; 8:45 am]

BILLING CODE 3810-FF-P